SECURITIES AND EXCHANGE COMMISSION

Sunshine Act Meeting; Date and Time Change

Federal Register Citation of Previous Announcement: To be published.

Previously Announced Time and Date of the Meeting: Thursday, May 25, 2017 2:00 p.m.

Changes in the Meeting: The Closed Commission Meeting scheduled for May 25, 2017 at 2:00 p.m. has been changed to Wednesday, May 24, 2017 at 3:00 p.m.

Contact Person for More Information: For further information and to ascertain what, if any, matters have been added, deleted or postponed, please contact the Office of the Secretary at (202) 551-5400.

Dated: May 19, 2017.
Brent J. Fields,
Secretary.

[FR Doc. 2017-10694 Filed 5-22-17; 11:15 am]

BILLING CODE 8011-01-P